FEDERAL HOUSING FINANCE AGENCY

[No. 2011-N-13]

Notice of Order: Revisions to Enterprise Public Use Database Incorporating High-Cost Single-Family Securitized Loan Data Fields and Technical Data Field Changes

AGENCY: Federal Housing Finance Agency.

ACTION: Supplementary notice.

SUMMARY: This document updates information that appeared in the Notice of Order published in the Federal Register on September 28, 2011.

FOR FURTHER INFORMATION CONTACT: For questions on data or methodology, contact: Ian Keith, Senior Program Analyst, (202) 408-2949, Office of Housing & Regulatory Policy, 1625 Eye Street NW., Washington, DC 20006. mailto: Ian.Keith@fhfa.gov. For legal questions, contact: Sharon Like, Managing Associate General Counsel, (202) 414-8950, Office of General Counsel, 1700 G Street NW., Fourth Floor, Washington, DC 20552. These are not toll free numbers. The telephone number for the Telecommunications Device for the Hearing Impaired is (800) 877-8339.

SUPPLEMENTARY INFORMATION: The Federal Housing Finance Agency (FHFA) published a Notice of Order in the Federal Register of September 28, 2011 at 76 FR 60031, regarding FHFA's adoption of an Order revising FHFA's Public Use Database matrices to include certain data fields for high-cost single-family loans purchased and securitized by the Federal National Mortgage Association (Fannie Mae) and the Federal Home Loan Mortgage Corporation (Freddie Mac). The SUPPLEMENTARY INFORMATION in the Notice of Order stated that, based on data reported by Fannie Mae and Freddie Mac, in 2010, Freddie Mac did not purchase and securitize any first mortgages with a Home Mortgage Disclosure Act rate spread at or above 1.5 percent. (Id. at 60033). In reaching this determination, a multiplier factor should have been applied to the reported rate spread decimal values. Applying the multiplier factor to 2010 data, Freddie Mac purchased and securitized a total of 6,030 first mortgages (with an unpaid principal balance (UPB) of $897.6 million) with a valid Home Mortgage Disclosure Act rate spread. Of these total loans, 75 loans (with a UPB of $13.2 million) were repurchased as of year-end, and 5,955 loans (with a UPB of $884.4 million) were not repurchased as of year-end. The 75 loans repurchased represent 1.2 percent of the total loans (1.5 percent of UPB) with a validly identified rate spread that were purchased and securitized during 2010.

Based on this updated data, Freddie Mac's 2010 high-cost securitized loan data has been released in the National File C Data Set, and the rate spread field has been corrected in the Single Family Census Tract Data Set. Both files are available at http://www.fhfa.gov/Default.aspx?Page=367.

Dated: December 7, 2011.
Edward J. DeMarco,
Acting Director, Federal Housing Finance Agency.

[FR Doc. 2011-31946 Filed 12-12-11; 8:45 am]

BILLING CODE 8070-01-P